DEPARTMENT OF HOMELAND SECURITY

Federal Emergency Management Agency

[Docket ID FEMA-2020-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado:
Boulder (FEMA Docket No.: B-1981). | City of Longmont (19-08-0300P). | The Honorable Brian Bagley, Mayor, City of Longmont, 350 Kimbark Street, Longmont, CO 80501. | Public Works and Natural Resources Department, 385 Kimbark Street, Longmont, CO 80501. | Mar. 11, 2020 | 080027
Boulder (FEMA Docket No.: B-1981). | Unincorporated areas of Boulder County (19-08-0300P). | The Honorable Elise Jones, Chair, Boulder County Board of Commissioners, P.O. Box 471, Boulder, CO 80306. | Boulder County Transportation Department, 2525 13th Street, Suite 203, Boulder, CO 80304. | Mar. 11, 2020 | 080023
Las Animas (FEMA Docket No.: B-1981). | Unincorporated areas of Las Animas County (19-08-0389P). | The Honorable Felix M. Lopez, District 1 Commissioner, Las Animas County, 200 East 1st Street, Trinidad, CO 81082. | Las Animas County Courthouse, 200 East 1st Street, Room 106, Trinidad, CO 81082. | Mar. 12, 2020 | 080105
Connecticut: Tolland (FEMA Docket No.: B-1981). | Town of Somers (19-01-0920P). | The Honorable C.G. Knorr, Jr., First Selectman, Town of Somers Board of Selectmen, 600 Main Street, Somers, CT 06071. | Town Hall, 600 Main Street, Somers, CT 06071. | Mar. 18, 2020 | 090112
Florida:
Collier (FEMA Docket No.: B-2006). | City of Marco Island (19-04-5064P). | Mr. Michael T. McNees, City of Marco Island, Manager, 50 Bald Eagle Drive, Marco Island, FL 34145. | Building Services Department, 50 Bald Eagle Drive, Marco Island, FL 34145. | Mar. 13, 2020 | 120426
Monroe (FEMA Docket No.: B-1981). | Village of Islamorada (19-04-5432P). | The Honorable Deb Gillis, Mayor, Village of Islamorada, 86800 Overseas Highway, Islamorada, FL 33036. | Building Department, 86800 Overseas Highway, Islamorada, FL 33036. | Mar. 4, 2020 | 120424
Orange (FEMA Docket No.: B-1981). | City of Orlando (19-04-2940P). | The Honorable Buddy Dyer, Mayor, City of Orlando, 400 South Orange Avenue, Orlando, FL 32801. | Public Works Department, Engineering Division, 400 South Orange Avenue, Orlando, FL 32801. | Mar. 11, 2020 | 120186
Orange (FEMA Docket No.: B-1981). | City of Orlando (19-04-3467P). | The Honorable Buddy Dyer, Mayor, City of Orlando, 400 South Orange Avenue, Orlando, FL 32801. | Public Works Department, Engineering Division, 400 South Orange Avenue, Orlando, FL 32801. | Mar. 4, 2020 | 120186
Orange (FEMA Docket No.: B-1981). | Unincorporated areas of Orange County (19-04-2940P). | The Honorable Jerry L. Demings, Mayor, Orange County, 201 South Rosalind Avenue, 5th Floor Orlando, FL 32801. | Orange County Stormwater Management Department, 4200 South John Young Parkway Orlando, FL 32839. | Mar. 11, 2020 | 120179
Orange (FEMA Docket No.: B-1981). | Unincorporated areas of Orange County (19-04-3467P). | The Honorable Jerry L. Demings, Mayor, Orange County, 201 South Rosalind Avenue, 5th Floor Orlando, FL 32801. | Orange County Stormwater Management Department, 4200 South John Young Parkway, Orlando, FL 32839. | Mar. 4, 2020 | 120179
Sarasota (FEMA Docket No.: B-1981). | City of Sarasota (19-04-5431P). | The Honorable Liz Alpert, Mayor, City of Sarasota, 1565 1st Street, Room 101, Sarasota, FL 34236. | Development Services Department, 1565 1st Street, Sarasota, FL 34236. | Mar. 13, 2020 | 125150
New York: Montgomery (FEMA Docket No.: B-1974). | City of Amsterdam (19-02-1207P). | The Honorable Michael J. Villa, Mayor, City of Amsterdam, 61 Church Street, Amsterdam, NY 12010. | City Hall, 61 Church Street, Amsterdam, NY 12010. | Mar. 20, 2020 | 360440
North Carolina: Cumberland (FEMA Docket No.: B-2006). | City of Fayetteville (19-04-2019P). | The Honorable Mitch Colvin, Mayor, City of Fayetteville, 433 Hay Street, Fayetteville, NC 28301. | Planning and Zoning Division, 433 Hay Street, Fayetteville, NC 28301. | Feb. 25, 2020 | 370077
Oklahoma:
Creek (FEMA Docket No.: B-2006). | City of Sapulpa (19-06-0851P). | The Honorable Reg Green, Mayor, City of Sapulpa, 425 East Dewey Avenue, Sapulpa, OK 74067. | GIS Mapping Department, 425 East Dewey Avenue, Sapulpa, OK 74067. | Mar. 16, 2020 | 400053
Creek (FEMA Docket No.: B-2006). | Unincorporated areas of Creek County (19-06-0851P). | The Honorable Leon Warner, Chairman, Creek County Commission, 10920 South Highway 99, Drumright, OK 74030. | Creek County Planning Department, 317 East Lee Avenue, Suite 101, Sapulpa, OK 74066. | Mar. 16, 2020 | 400490
Tulsa (FEMA Docket No.: B-1981). | City of Bixby (19-06-2128P). | The Honorable Brian Guthrie, Mayor, City of Bixby, P.O. Box 70, Bixby, OK 74008. | Development Services Department, 113 West Dawes, Bixby, OK 74008. | Mar. 12, 2020 | 400207
South Carolina: Horry (FEMA Docket No.: B-1981). | City of Myrtle Beach (19-04-5527P). | Mr. John Pedersen, City of Myrtle Beach, Manager, 937 Broadway Street, Myrtle Beach, SC 29577. | City Services Department, 921 North Oak Street, Myrtle Beach, SC 29577. | Mar. 13, 2020 | 450109
Texas:
Bexar (FEMA Docket No.: B-2006). | City of San Antonio (18-06-2883P). | The Honorable Ron Nirenberg, Mayor, City of San Antonio, P.O. Box 839966, San Antonio, TX 78283. | Transportation and Capital Improvements Department, Storm Water Division, 1901 South Alamo Street, 2nd Floor, San Antonio, TX 78204. | Mar. 9, 2020 | 480045
Collin (FEMA Docket No.: B-2006). | City of Allen (19-06-0352P). | The Honorable Stephen Terrell, Mayor, City of Allen, 305 Century Parkway, 1st Floor, Allen, TX 75013. | City Hall, 305 Century Parkway, Allen, TX 75013. | Mar. 13, 2020 | 480131
Collin (FEMA Docket No.: B-2006). | City of Celina (19-06-2646P). | The Honorable Sean Terry, Mayor, City of Celina, 142 North Ohio Street, Celina, TX 75009. | City Hall, 142 North Ohio Street, Celina, TX 75009. | Mar. 16, 2020 | 480133
Dallas (FEMA Docket No.: B-2006). | City of Dallas (19-06-2679P). | The Honorable Eric Johnson, Mayor, City of Dallas, 1500 Marilla Street, Suite 5EN, Dallas, TX 75201. | Floodplain Management Department, 320 East Jefferson Boulevard, Room 307, Dallas, TX 75203. | Mar. 16, 2020 | 480171
Dallas (FEMA Docket No.: B-1981). | City of Grand Prairie (19-06-2040P). | The Honorable Ron Jensen, Mayor, City of Grand Prairie, P.O. Box 534045, Grand Prairie, TX 75053. | Development Department, 206 West Church Street, Grand Prairie, TX 75050. | Mar. 6, 2020 | 485472
Denton and Tarrant (FEMA Docket No.: B-2006). | City of Fort Worth (19-06-2492P). | The Honorable Betsy Price, Mayor, City of Fort Worth, 200 Texas Street, Fort Worth, TX 76102. | Transportation and Public Works Department, 200 Texas Street, Fort Worth, TX 76102. | Mar. 16, 2020 | 480596
Tarrant (FEMA Docket No.: B-2006). | City of Fort Worth (19-06-3526X). | The Honorable Betsy Price, Mayor, City of Fort Worth, 200 Texas Street, Fort Worth, TX 76102. | Transportation and Public Works Department, 200 Texas Street, Fort Worth, TX 76102. | Mar. 16, 2020 | 480596
Virginia:
Albemarle (FEMA Docket No.: B-1981). | Unincorporated areas of Albemarle County (19-03-1243P). | Mr. Jeff Richardson, Albemarle County Executive, 401 McIntire Road, Charlottesville, VA 22902. | Albemarle County Community Development Department, 401 McIntire Road, Charlottesville, VA 22902. | Mar. 19, 2020 | 510006
Independent City (FEMA Docket No.: B-1981). | City of Charlottesville (19-03-1243P). | Mr. Tarron J. Richardson, City of Charlottesville Manager, P.O. Box 911, Charlottesville, VA 22902. | Neighborhood Development Services Department, 610 East Market Street, Charlottesville, VA 22902. | Mar. 19, 2020 | 510033

[FR Doc. 2020-07051 Filed 4-2-20; 8:45 am]

BILLING CODE 9110-12-P